NATIONAL SCIENCE FOUNDATION

Advisory Committee for Social, Behavioral, and Economic Sciences; Notice of Meeting

In accordance with Federal Advisory Committee Act (Pub. L. 92-463, as amended), the National Science Foundation announces the following meeting:

Name: Advisory Committee for Social, Behavioral, and Economic Sciences (#1171).

Date/Time: November 16, 2006; 8:30 a.m. to 5 p.m. November 17, 2006; 8:30 a.m. to 1 p.m.

Place: Holiday Inn Arlington Hotel, 4610 North Fairfax Drive, Arlington, VA 22230 (Clarendon Banquet Room).

Type of Meeting: Open.

Contact Person: Mr. Tyrone Jordan, Office of the Assistant Director, Directorate for Social, Behavioral, and Economic Sciences, National Science Foundation, 4201 Wilson Boulevard, Room 905, Arlington, VA 22230, 703-292-8741.

Summary Minutes: May be obtained from contact person listed above.

Purpose of Meeting: To provide advice and recommendations to the National Science Foundation on major goals and policies pertaining to Social, Behavioral and Economic Sciences Directorate programs and activities.

Agenda: November 16, 2006, Meeting for New Advisory Committee Members. Introduction of New Advisory Committee Members and Staff, Review of Minutes, and Directorate Updates. Human and Social Dynamics (HSD) Priority Area Update. Division of Behavioral and Cognitive Sciences (BCS) COV.

November 17, 2006, IPAMM. Cyberinfrastructure. Identification of Agenda Items for Next Meeting.

Dated: October 19, 2006.
Susanne Bolton,
Committee Management Officer.

[FR Doc. 06-8841 Filed 10-23-06; 8:45 am]

BILLING CODE 7555-01-M